DEPARTMENT OF AGRICULTURE

Animal and Plant Health Inspection Service

7 CFR Part 319

[Docket No. APHIS-2013-0037]

RIN 0579-AD78

Importation of Potatoes From Mexico

AGENCY: Animal and Plant Health Inspection Service, USDA.

ACTION: Proposed rule.

SUMMARY: We are proposing to amend the regulations concerning the importation of fruits and vegetables to allow the importation of fresh potatoes (Solanum tuberosum L.) from Mexico into the United States. As a condition of entry, the potatoes would have to be produced in accordance with a systems approach employing a combination of mitigation measures to prevent the introduction and dissemination of plant pests into the United States. The potatoes would have to be imported in commercial consignments, would have to be produced by a grower who is registered in a certification program, would have to be packed in registered packinghouses, would have to be washed, cleaned, and treated with a sprout inhibitor, and would have to be inspected after packing for quarantine pests. The potatoes would also have to be accompanied by a phytosanitary certificate that declares that the conditions for importation have been met. Finally, the national plant protection organization (NPPO) of Mexico would have to provide a bilateral workplan to the Animal and Plant Health Inspection Service (APHIS) that details the activities that the NPPO of Mexico will carry out to meet these requirements, subject to APHIS' approval. This action would allow the importation of potatoes from Mexico while continuing to protect against the introduction of plant pests into the United States.

DATES: We will consider all comments that we receive on or before November 26, 2013.

ADDRESSES: You may submit comments by either of the following methods:

• Federal eRulemaking Portal: Go to http://www.regulations.gov/#!documentDetail;D=APHIS-2013-0037-0001.

• Postal Mail/Commercial Delivery: Send your comment to Docket No. APHIS-2013-0037, Regulatory Analysis and Development, PPD, APHIS, Station 3A-03.8, 4700 River Road Unit 118, Riverdale, MD 20737-1238.

Supporting documents and any comments we receive on this docket may be viewed at http://www.regulations.gov/#!docketDetail;D=APHIS-2013-0037 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David Lamb, Regulatory Policy Specialist, PPQ, APHIS, 4700 River Road Unit 133, Riverdale, MD 20737-1231; (301) 851-2018.

SUPPLEMENTARY INFORMATION:

Background

The regulations in “Subpart-Fruits and Vegetables” (7 CFR 319.56-1 through 319.56-61, referred to below as the regulations) prohibit or restrict the importation of fruits and vegetables into the United States from certain parts of the world to prevent the introduction and dissemination of plant pests.

Currently, the regulations do not allow the importation of fresh potatoes (Solanum tuberosum L.) from Mexico. The national plant protection organization (NPPO) of Mexico has requested that the Animal and Plant Health Inspection Service (APHIS) amend the regulations to allow fresh potatoes from Mexico to be imported into the United States. As part of our evaluation of Mexico's request, we prepared a pest risk assessment (PRA) and a risk management document (RMD). Copies of the PRA and the RMD may be obtained from the person listed under FOR FURTHER INFORMATION CONTACT or viewed on the Regulations.gov Web site (see ADDRESSES above for instructions for accessing Regulations.gov).

The PRA, titled “Importation, from Mexico into the United States, of Potato, Solanum tuberosum, Tubers Intended for Consumption, A Pathway-Initiated Commodity Risk Assessment” (April 2011), evaluates the risks associated with the importation of fresh potatoes from Mexico into the United States. The RMD relies upon the findings of the PRA to determine the phytosanitary measures necessary to ensure the safe importation into the United States of potatoes from Mexico.

The PRA identifies eight quarantine pests present in Mexico that could be introduced into the United States through the importation of potatoes:

• Copitarsia decolora (Guenée), a moth.

• Epicaerus cognatus Sharp, potato weevil.

• Nacobbus aberrans (Thorne) Thorne & Allen, false root-knot nematode.

• Ralstonia solanacearum race 3 biovar 2 (Smith) Yabuuchi et al., a bacterium that causes brown rot of potato.¹

¹ The PRA refers to this pest as “Ralstonia solanacearum race 3” because the taxonomic community customarily uses this term to refer to Ralstonia solanacearum race 3 biovar 2. However, R. solanacearum race 3 biovar 1 also exists in Mexico and could follow the pathway on potatoes from Mexico into the United States, but is not a pest of quarantine significance to the United States. To reflect this fact, and to clarify that the proposed regulations are not intended to address this biovar, we refer to the pest as Ralstonia solanacearum race 3 biovar 2 throughout this document.

• Rosellinia bunodes (Berk. & Broome) Sacc., a pathogenic fungus.

• R. pepo Pat., a pathogenic fungus.

• Synchytrium endobioticum (Schilb.) Percival, a pathogenic fungus that causes potato wart disease.

• Thecaphora solani (Thirum. & M. O'Brien) Mordue, a pathogenic fungus that causes potato smut.

The PRA also identifies Globodera rostochiensis, golden cyst nematode, as a quarantine pest that exists in Mexico, and determines that this pest is unlikely to follow the pathway only because it is under official control within Mexico.

A quarantine pest is defined in § 319.56-2 of the regulations as a pest of potential economic importance to the area endangered thereby and not yet present there, or present but not widely distributed and being officially controlled. Plant pest risk potentials associated with the importation of fresh potatoes from Mexico into the United States were derived by estimating the consequences and likelihood of introduction of each quarantine pest into the United States and ranking the risk potential as high, medium, or low. The PRA determined that three of these eight pests—N. aberrans, R. solanacearum race 3 biovar 2, and S. endobioticum—pose a high risk of following the pathway of fresh potatoes from Mexico into the United States and having negative effects on U.S. agriculture. The remaining five pests—C. decolora, E. cognatus, R. bunodes, R. pepo, and T. solani—were rated as having a medium risk potential.

Based on the conclusions of the PRA and the RMD, we are proposing to allow the importation of potatoes from Mexico into the United States subject to a systems approach. The conditions in the systems approach that we are proposing are described below. These conditions would be added to the regulations in a new § 319.56-62.

Bilateral Workplan

Proposed paragraph (a) of § 319.56-62 would require the NPPO of Mexico to provide a bilateral workplan to APHIS that details the activities that the NPPO would, subject to APHIS' approval of the workplan, carry out to meet the requirements of proposed § 319.56-62. The bilateral workplan would have to include and describe in detail any requirements in proposed § 319.56-62 that specifically refer to the bilateral workplan.

A bilateral workplan is an agreement between APHIS' Plant Protection and Quarantine program, officials of the NPPO of a foreign government, and, when necessary, foreign commercial entities, that specifies in detail the phytosanitary measures that will comply with our regulations governing the import or export of a specific commodity. Bilateral workplans apply only to the signatory parties and establish detailed procedures and guidance for the day-to-day operations of specific import/export programs. Bilateral workplans also establish how specific phytosanitary issues are dealt with in the exporting country and make clear who is responsible for dealing with those issues. The implementation of a systems approach typically requires a bilateral workplan to be developed.

Commercial Consignments

Proposed paragraph (b) of § 319.56-62 would require potatoes from Mexico to be imported only in commercial consignments. Produce grown commercially is less likely to be infested with plant pests than noncommercial shipments. Noncommercial shipments are more prone to infestations because the commodity is often ripe to overripe, could be of a variety with unknown susceptibility to pests, and is often grown with little or no pest control. Commercial consignments, as defined in § 319.56-2 of the regulations, are consignments that an inspector identifies as having been imported for sale and distribution. Such identification is based on a variety of indicators, including, but not limited to: Quantity of produce, type of packaging, identification of grower or packinghouse on the packaging, and documents consigning the fruits or vegetables to a wholesaler or retailer.

Certification Program

Proposed paragraph (c) of § 319.56-62 would require the potatoes to be produced by a grower who is registered in a certification program administered by the NPPO of Mexico. At a minimum, the program would have to require the producer to use only seed that has been certified by the NPPO of Mexico as free of R. solanacearum race 3 biovar 2, R. bunodes, R. pepo, S. endobioticum, and T. solani to produce the potatoes. The certification program would also have to require the potatoes to be grown in an enclosed environment or alternatively would have to require the field in which the potatoes are grown to be surveyed for quarantine pests and tested for R. solanacearum race 3 biovar 2 at regular intervals. The nature of these intervals and other requirements of the program that are jointly agreed upon by APHIS and the NPPO of Mexico would be contained in the bilateral workplan.

Seed certification for potatoes is based on a generational process. As part of this process, a small quantity of seed is used as nuclear stock and grown over several growing seasons. Potatoes produced from this seed are inspected and tested at regular intervals for quarantine pests. If all generations of potatoes produced during these growing seasons are determined to be free of quarantine pests, the seed may be certified as being free of quarantine pests and commercially distributed.

We would require the use of certified seed because R. solanacearum race 3 biovar 2 and S. endobioticum can remain viable in a hospitable environment for an extended period of time. We would also do so because potatoes may be infected with R. bunodes, R. pepo, and T. solani for a period of time before there is external evidence of this infection. The generational process associated with seed certification provides sufficient time to determine whether any of the nuclear stock seed is infected with these pests.

We would require the potatoes to be produced in an enclosed environment or, alternatively, would require the field in which the potatoes are grown to be surveyed for quarantine pests because most of the pests of quarantine significance that could follow the pathway on potatoes from Mexico are soil-borne, and because the most virulent of these pests, R. solanacearum race 3 biovar 2, can spread quickly through both water and soil. For this latter reason, if the potatoes are produced in a field, we would require the field to be tested for R. solanacearum race 3 biovar 2 at regular intervals.

Registered Packinghouses

Proposed paragraph (d) of § 319.56-62 would require the potatoes to be packed for export in packinghouses that are registered with the NPPO of Mexico and to which the NPPO of Mexico has assigned a unique identifying number. Such registration would facilitate traceback of a consignment of potatoes to the packinghouse in which it was packed in the event that quarantine pests were discovered in the consignment at the port of first arrival into the United States. We discuss such traceback procedures at greater length later in this document.

Post-Harvest Cleaning and Treatment

Proposed paragraph (e) of § 319.56-62 would require that, after harvest but prior to packing, the potatoes be washed, cleaned of soil and debris, and treated with a sprout inhibitor in accordance with the bilateral workplan. Washing and cleaning would remove soil and plant debris, two potential sources of introduction of quarantine pests, from the potatoes. Washing would also remove any C. decolora on the potatoes, since the moth is an external feeder.

We would require treatment with sprout inhibitors because, once a potato has begun to sprout, it is propagative material that can easily be used as a plant for planting. The risk assessment that we prepared evaluated only the risk of potatoes from Mexico imported into the United States for human consumption, and, in general, the plant pest risk associated with plants for planting tends to be higher than that associated with plants and plant parts intended for human consumption.

Post-Harvest Inspections

Proposed paragraph (f) of § 319.56-62 would require a biometric sample to be taken from each consignment of potatoes destined for export to the United States in accordance with a protocol jointly agreed upon by APHIS and the NPPO of Mexico and specified within the bilateral workplan. The sample would have to be visually inspected for evidence of sprouting, as well as evidence of C. decolora, E. cognatus, N. aberrans, R. bunodes, R. pepo, and T. solani. It would also require a portion of the potatoes in the sample to be cut open, inspected for evidence of E. cognatus, N. aberrans, R. solanacearum race 3 biovar 2, and T. solani, and submitted to a laboratory approved by the NPPO of Mexico for testing for R. solanacearum race 3 biovar 2. The potatoes could not be shipped to the United States until the results of this testing are obtained. If any of the potatoes are found to be sprouting, or any evidence of these quarantine pests is found, or any potatoes have non-negative test results for R. solanacearum race 3 biovar 2, the entire consignment of potatoes would be prohibited from importation into the United States.

Potatoes infected with R. bunodes and R. pepo exhibit signs of rot and fungal growths, and potatoes infected with T. solani become misshapen or covered with wart-like galls. Additionally, as mentioned above, C. decolora is an external feeder. Visual inspection should therefore be able to identify any potatoes that are infected with R. bunodes, R. pepo, or T. solani, or infested with C. decolora. Additionally, although E. cognatus and N. aberrans are internal feeders, potatoes that are heavily infested with these pests may exhibit some external symptoms of this infestation.

By cutting the potatoes open, evidence of infestation with E. cognatus and N. aberrans would become apparent, as would any galling caused by T. solani. R. solanacearum race 3 biovar 2 attacks the vascular system of host plants and causes the collapse of vascular tissue; if the vascular tissues of the potatoes have begun to collapse because of R. solanacearum race 3 biovar 2, this would likewise be apparent when the potatoes are cut open. However, because R. solanacearum race 3 biovar 2 may have already infected a plant before symptoms of vascular collapse appear, and because R. solanacearum race 3 biovar 2 is an especially virulent pest, we would also require the potatoes to be tested for R. solanacearum race 3 biovar 2 with negative results at a laboratory approved by the NPPO of Mexico.

We would require the potatoes not to exhibit evidence of sprouting because, as we mentioned above, sprouting potatoes are propagative and can easily be used as plants for planting.

Sealed Means of Conveyance

Proposed paragraph (g) of § 319.56-62 would require each consignment of potatoes shipped from Mexico to the United States to be transported following inspection from the packinghouse to the port of first arrival into the United States in a means of conveyance sealed with an agricultural seal affixed by an individual authorized by the NPPO of Mexico to do so. This requirement is necessary to prevent quarantine pests from being introduced into consignments of potatoes during transit to the United States.

If the seal is broken en route, an inspector at the port of first arrival would take remedial measures jointly agreed to by APHIS and the NPPO of Mexico and specified in the bilateral workplan. The measures specified in the workplan would depend on whether the inspector determines the integrity of the consignment itself to have been compromised; if so, whether this has resulted in the introduction of plant pests into the consignment during transit; and, if so, whether any of these pests are quarantine pests.

Phytosanitary Certificate

Proposed paragraph (h) of § 319.56-62 would require each consignment of potatoes shipped from Mexico to the United States to be accompanied by a phytosanitary certificate, issued by the NPPO of Mexico, that states that the potatoes do not come from an area of Mexico regulated by the NPPO of Mexico for G. rostochiensis; have been produced from seed certified free of R. solanacearum race 3 biovar 2, R. bunodes, R. pepo, S. endobioticum, and T. solani; have been inspected for C. decolora, E. cognatus, N. aberrans, R. solanacearum race 3 biovar 2, R. bunodes, R. pepo, and T. solani; have been tested for R. solanacearum race 3 biovar 2; and based on this inspection and testing, have been found free of those pests. The phytosanitary certificate would also have to specify the number of the packinghouse in which the potatoes were packed.

Because G. rostochiensis is a quarantine pest within the United States, we would prohibit the importation of potatoes from areas of Mexico regulated for G. rostochiensis into the United States in order to prevent additional introductions of the pest into the United States. The proposed phytosanitary certificate requirements reflect that prohibition.

Traceback Procedures

Proposed paragraph (i) of § 319.56-62 would establish traceback procedures if quarantine pests are discovered on potatoes from Mexico at a port of first arrival into the United States. In the event that this occurs, the potatoes would be traced back to the packinghouse in which they were packed using the packinghouse number specified on the phytosanitary certificate.

The packinghouse would be required to identify the grower from which the potatoes originated, and the grower would be required to identify the place of production in which the potatoes were grown. That place of production would be suspended from the export program for potatoes to the United States for the remainder of the shipping season.

If the grower is unable to identify the place of production in which the potatoes were grown, that grower would be suspended from the export program for the remainder of the shipping season.

Finally, if the packinghouse is unable to identify the grower from which the potatoes originated, that packinghouse would be suspended from the export program for potatoes to the United States for the remainder of the shipping season.

Executive Order 12866 and Regulatory Flexibility Act

This proposed rule has been determined to be not significant for the purposes of Executive Order 12866 and, therefore, has not been reviewed by the Office of Management and Budget.

We have prepared an economic analysis for this rule. The economic analysis provides a cost-benefit analysis, as required by Executive Order 12866, and an analysis of the potential economic effects of this action on small entities, as required by the Regulatory Flexibility Act. The economic analysis is summarized below. Copies of the full analysis are available by contacting the person listed under FOR FURTHER INFORMATION CONTACT or on the Regulations.gov Web site (see ADDRESSES above for instructions for accessing Regulations.gov).

The Small Business Administration's small-entity standard for U.S. farms that produce potato tubers is annual receipts of not more than $750,000. In 2007, the average market value of sales by the 15,014 U.S. farms that produced potatoes was about $222,000, well below the small-entity standard.

In recent years, the United States has shifted from being a net importer to being a net exporter of fresh or chilled table potatoes. U.S. average annual net supply from 2008 to 2010 (marketed production plus imports minus exports) was about 16.6 million metric tons (MT). Mexico's average annual exports for the same years totaled about 1,500 MT. Even if all of Mexico's exports were diverted to the United States, they would be equivalent to less than one-hundredth of 1 percent of U.S net supply.

Under these circumstances, the Administrator of the Animal and Plant Health Inspection Service has determined that this action would not have a significant economic impact on a substantial number of small entities.

Executive Order 12988

This proposed rule would allow fresh potatoes for consumption to be imported into the United States from Mexico. If this proposed rule is adopted, State and local laws and regulations regarding potatoes imported under this rule would be preempted while the potatoes are in foreign commerce. Fresh potatoes are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2013-0037. Please send a copy of your comments to: (1) Docket No. APHIS-2013-0037, Regulatory Analysis and Development, PPD, APHIS, Station 3A-03.8, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

APHIS is proposing to amend the fruits and vegetables regulations to allow, under certain conditions, the importation into the United States of commercial consignments of fresh potatoes from Mexico. The conditions for the importation of fresh potatoes from Mexico include registration of packinghouses. The potatoes would also be required to be accompanied by a phytosanitary certificate issued by the NPPO of Mexico with an additional declaration confirming that the potatoes had been produced in accordance with the proposed requirements. The NPPO of Mexico would also have to enter into a bilateral workplan with APHIS.

We are soliciting comments from the public (as well as affected agencies) concerning our proposed information collection and recordkeeping requirements. These comments will help us:

(1) Evaluate whether the proposed information collection is necessary for the proper performance of our agency s functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 2.97 hours per response.

Respondents: National Plant Protection Organization of Mexico, producers.

Estimated annual number of respondents: 19.

Estimated annual number of responses per respondent: 2.6.

Estimated annual number of responses: 31.

Estimated total annual burden on respondents: 92 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 7 CFR Part 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. Add § 319.56-62 to read as follows:

§ 319.56-62 Potatoes from Mexico.

Fresh potatoes (Solanum tuberosum L.) may be imported into the United States from Mexico only under the conditions described in this section. These conditions are designed to prevent the introduction of the following quarantine pests: Copitarsia decolora (Guenée), a moth; Epicaerus cognatus Sharp, potato weevil; Globodera rostochiensis, golden cyst nematode; Nacobbus aberrans (Thorne) Thorne & Allen, false root-knot nematode; Ralstonia solanacearum race 3 biovar 2 (Smith) Yabuuchi et al., a bacterium that causes brown rot of potato; Rosellinia bunodes (Berk. & Broome) Sacc., a pathogenic fungus; R. pepo Pat., a pathogenic fungus; Synchytrium endobioticum (Schilb.) Percival, a pathogenic fungus that causes potato wart disease; and Thecaphora solani (Thirum. & M. O'Brien) Mordue, a pathogenic fungus that causes potato smut.

(a) The national plant protection organization (NPPO) of Mexico must provide a bilateral workplan to APHIS that details the activities that the NPPO of Mexico will, subject to APHIS' approval of the workplan, carry out to meet the requirements of this section. The bilateral workplan must include and describe the quarantine pest survey intervals and other specific requirements as set forth in this section.

(b) The potatoes may be imported in commercial consignments only.

(c) The potatoes must be produced by a grower who is registered in a certification program administered by the NPPO of Mexico. The program must require the producer to use only seed that has been certified by the NPPO of Mexico as free of R. solanacearum race 3 biovar 2, R. bunodes, R. pepo, S. endobioticum, and T. solani to produce the potatoes. The program must also require the potatoes to be grown in an enclosed environment or alternatively must require the field in which the potatoes are grown to be surveyed for quarantine pests and tested for R. solanacearum race 3 biovar 2 at regular intervals in accordance with the bilateral workplan.

(d) The potatoes must be packed for export in packinghouses that are registered with the NPPO of Mexico and to which the NPPO of Mexico has assigned a unique identifying number.

(e) After harvest but prior to packing, the potatoes must be washed, cleaned of soil and debris, and treated with a sprout inhibitor in accordance with the bilateral workplan.

(f) A biometric sample of potatoes must be taken from each consignment of potatoes destined for export to the United States in accordance with a protocol jointly agreed upon by APHIS and the NPPO of Mexico and specified within the bilateral workplan. The sample must be visually inspected for evidence of sprouting, as well as evidence of C. decolora, E. cognatus, N. aberrans, R. bunodes, R. pepo, and T. solani. A portion of the potatoes must then be cut open, inspected for evidence of E. cognatus, N. aberrans, R. solanacearum race 3 biovar 2, and T. solani, and submitted to a laboratory approved by the NPPO of Mexico for testing for R. solanacearum race 3 biovar 2. Potatoes may not be shipped to the United States until the results of this testing are obtained. If any potatoes are found to be sprouting, or any evidence of these quarantine pests is found, or any potatoes have non-negative test results for R. solanacearum race 3 biovar 2, the entire consignment of potatoes will be prohibited from importation into the United States.

(g) Each consignment of potatoes shipped from Mexico to the United States must be transported following inspection from the packinghouse to the port of first arrival into the United States in a means of conveyance sealed with an agricultural seal affixed by an individual authorized by the NPPO of Mexico to do so. If the seal is broken en route, an inspector at the port of first arrival will take remedial measures jointly agreed to by APHIS and the NPPO of Mexico and specified in the bilateral workplan.

(h) Each consignment of potatoes shipped from Mexico to the United States must be accompanied by a phytosanitary certificate, issued by the NPPO of Mexico, that states that that the potatoes do not come from an area of Mexico regulated by the NPPO of Mexico for G. rostochiensis; have been produced from seed certified free of R. solanacearum race 3 biovar 2, R. bunodes, R. pepo, S. endobioticum, and T. solani; have been inspected for C. decolora, E. cognatus, N. aberrans, R. solanacearum race 3 biovar 2, R. bunodes, R. pepo, and T. solani; have been tested for R. solanacearum race 3 biovar 2; and based on this inspection and testing, have been found free of those pests. The phytosanitary certificate must also specify the number of the packinghouse in which the potatoes were packed.

(i) If quarantine pests are discovered on potatoes from Mexico at a port of first arrival into the United States, the potatoes will be traced back to the packinghouse in which they were packed using the packinghouse number specified on the phytosanitary certificate.

(1) The packinghouse must identify the grower from which the potatoes originated, and the grower must identify the place of production in which the potatoes were grown. That place of production will be suspended from the export program for potatoes to the United States for the remainder of the shipping season.

(2) If the grower is unable to identify the place of production in which the potatoes were grown, that grower will be suspended from the export program for potatoes to the United States for the remainder of the shipping season.

(3) If the packinghouse is unable to identify the grower from which the potatoes originated, that packinghouse will be suspended from the export program for potatoes to the United States for the remainder of the shipping season.

Done in Washington, DC, this 24th day of September 2013.
Kevin Shea,
Administrator, Animal and Plant Health Inspection Service.

[FR Doc. 2013-23667 Filed 9-26-13; 8:45 am]

BILLING CODE 3410-34-P